ENVIRONMENTAL PROTECTION AGENCY

[FRL-8241-8]

Science Advisory Board Staff Office; Notification of a Public Teleconference and Meeting of the Science Advisory Board

AGENCY: Environmental Protection Agency.

ACTION: Notice.

SUMMARY: The Environmental Protection Agency (EPA) Science Advisory Board (SAB) Staff Office announces a public teleconference and meeting of the Ethylene Oxide (EtO) Review Panel to review the Agency's draft assessment, “Evaluation of the Carcinogenicity of Ethylene Oxide”.

DATES: The SAB will hold the public teleconference on December 8, 2006. The teleconference will begin at 1 p.m. and end at 4 p.m. (Eastern Time). A face-to-face meeting will be held on January 18, 2007 from 9 a.m. to 5 p.m. (Eastern Time) and will continue on January 19, 2007 from 8:30 a.m. to 4 p.m. (Eastern Time).

Location: Telephone conference will be conducted by phone only. The venue for the January 18-19, 2007 face-to-face meeting will be announced on the SAB Web site (http://www.epa.gov/sab).

FOR FURTHER INFORMATION CONTACT: Any member of the public wishing to obtain general information concerning this public teleconference or meeting should contact Dr. Sue Shallal, Designated Federal Officer (DFO), EPA Science Advisory Board (1400F), U.S. Environmental Protection Agency, 1200 Pennsylvania Avenue, NW., Washington, DC 20460; via telephone/voice mail: (202) 343-9977; fax: (202) 233-0643; or e-mail at: shallal.suhair@epa.gov. General information concerning the EPA Science Advisory Board can be found on the SAB Web site at: http://www.epa.gov/sab.

SUPPLEMENTARY INFORMATION: Pursuant to the Federal Advisory Committee Act, Public Law 92-463, notice is hereby given that the EPA SAB will hold a public teleconference to review a draft EPA assessment. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: EPA's Office of Research and Development (ORD) has requested that the Science Advisory Board (SAB) review this draft entitled “Evaluation of the Carcinogenicity of Ethylene Oxide”. EPA last published a health assessment of the potential carcinogenicity of ethylene oxide (EtO) in 1985 (U.S. EPA, 1985). EPA has now completed a review of the more recent database on the carcinogenicity of EtO, pertinent data from the 1985 assessment, and several reviews and assessments issued by other organizations. This draft assessment focuses on lifetime cancer risk from inhalation exposure. In response to EPA's request, the SAB Staff Office formed a SAB Review Panel for EtO. Background information on the formation of the SAB EtO Review Panel can be found in the Federal Register Vol. 71, Number 40, page 10500-10501. This panel will provide advice and recommendations to EPA through the Chartered SAB and comply with the provisions of the Federal Advisory Committee Act (FACA) and all appropriate SAB procedural policies. The SAB Ethylene Oxide Review Panel is being asked to comment on the scientific soundness of this carcinogenicity assessment. The purpose of the public teleconference is to receive a briefing on the assessment and to clarify the charge to the panel. During the face-to-face meeting, the panel will review the assessment.

Availability of Materials: The draft agendas and other materials will be posted on the SAB Web site at: http://www.epa.gov/sab prior to each meeting. For questions and information concerning the Agency's draft assessment (http://cfpub.epa.gov/ncea/cfm/recordisplay.cfm?deid=157664 ), please contact Dr. Henry Kahn, at (202) 564-3269, or kahn.henry@epa.gov.

Procedures for Providing Public Input: Interested members of the public may submit relevant written or oral information for the SAB to consider during the public teleconference and/or meeting. Oral Statements: In general, individuals or groups requesting an oral presentation at a public SAB teleconference will be limited to three minutes per speaker, with no more than a total of one-half hour for all speakers. At the face-to-face meeting, presentations will be limited to five minutes, with no more than a total of one hour for all speakers. To be placed on the public speaker list, interested parties should contact Dr. Sue Shallal, DFO, in writing (preferably via e-mail), by December 1, 2006 for the teleconference and by January 8, 2007 for the face-to-face meeting, at the contact information noted above. Written Statements: Written statements should be received in the SAB Staff Office by December 1, 2006, so that the information may be made available to the SAB for their consideration prior to this teleconference or by January 8, 2007 for their consideration prior to the face-to-face meeting. Written statements should be supplied to the DFO in the following formats: One hard copy with original signature, and one electronic copy via e-mail (acceptable file format: Adobe Acrobat PDF, WordPerfect, MS Word, MS PowerPoint, or Rich Text files in IBM-PC/Windows 98/2000/XP format).

Accessibility: For information on access or services for individuals with disabilities, please contact Dr. Sue Shallal at (202) 343-9977 or shallal.suhair@epa.gov. To request accommodation of a disability, please contact Dr. Shallal preferably at least ten days prior to the meeting, to give EPA as much time as possible to process your request.

Dated: November 8, 2006.
Anthony F. Maciorowski,
Associate Director for Science, EPA Science Advisory Board Staff Office.

[FR Doc. E6-19170 Filed 11-13-06; 8:45 am]

BILLING CODE 6560-50-P